DEPARTMENT OF AGRICULTURE

Rural Business-Cooperative Service

Notice of Request for Extension of a Currently Approved Information Collection

AGENCY: Rural Business-Cooperative Service, USDA.

ACTION: Notice and request for comments.

SUMMARY: In accordance with the Paperwork Reduction Act of 1995, this notice announces the Rural Business-Cooperative Service intention to request an extension for a currently approved information collection in support of the Biorefinery Assistance Program (OMB No. 0570-0065).

DATES: Comments on this notice must be received by June 2, 2014.

Additional Information Or Comments: Contact Todd Hubbell, Branch Chief, Energy Division, Repowering Assistance Program, U.S. Department of Agriculture, 1400 Independence Avenue SW., Room 6865, Washington, DC 20250. Telephone: 202-690-2516. Email: Todd.Hubbell@wdc.usda.gov.

SUPPLEMENTARY INFORMATION: Title: Biorefinery Assistance Program.

OMB Number: OMB No. 0570-0065.

Expiration Date of Approval: June 30, 2014.

Type of Request: Extension and revision of a currently approved information Collection.

Abstract: The purpose of this program is to provide guaranteed loans for the development and construction of commercial-scale biorefineries or for the retrofitting of existing facilities using eligible technology for the development of advanced biofuels.

Estimate of Burden:

Estimated Number of Respondents: 50.

Estimated Number of Responses per Respondent: 30.14.

Estimated Number of Responses: 1,507.

Estimated Total Annual Burden on Respondents: 6,336 Hours.

Copies of this information collection can be obtained from Jeanne Jacobs, Regulations and Paperwork Management Division, at (202) 692-0040.

Comments: Comments are invited on: (a) Whether the proposed collection of information is necessary for the proper performance of the functions of RBS, including whether the information will have practical utility; (b) the accuracy of the RBS' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or forms of information technology. Comments may be sent to Jeanne Jacobs, Regulation and Paperwork Management Branch, Support Services Division, U.S. Department of Agriculture, Rural Development, STOP 0742, Washington, DC 20250-0742. All responses to this notice will be summarized and included in the request for OMB approval. All comments will also become a matter of public record.

Dated: March 26, 2014.
Lillian Salerno,
Administrator, Rural Business-Cooperative Service.

[FR Doc. 2014-07296 Filed 4-1-14; 8:45 am]

BILLING CODE 3410-XY-P